DEPARTMENT OF COMMERCE

Submission for OMB Review; Comment Request

The Department of Commerce will submit to the Office of Management and Budget (OMB) for clearance the following proposal for collection of information under the provisions of the Paperwork Reduction Act (44 U.S.C. Chapter 35).

Agency: Minority Business Development Agency

Title: Online Customer Relationship Management (CRM)/Performance Databases, Online Phoenix Database, and Online Opportunity Database.

OMB Control Number: 0640-0002.

Form Number(s): 0640-002.

Type of Request: Regular Submission.

Number of Respondents: 29,206.

Average Hours per Response: 1 to 210 minutes depending upon function.

Burden Hours: 4,496.

Needs and Uses: This request is for a revision with change to a current information collection. This revision continues an existing collection but adds a revised form to be used by the MBDA Business Centers. As part of its national service delivery system, MBDA awards cooperative agreements each year to fund the provision of business development services to eligible minority business enterprises (MBEs). The recipient of each cooperative agreement is competitively selected to operate one of the following business center programs: (1) An MBDA Business Center or (2) an American Indian Alaska Native (AIAN) Center. In accordance with the Government Performance Results Act (GPRA), MBDA requires all center operators to report basic client information, service activities and progress on attainment of program goals via the online CRM/Performance Databases. The data collected through the Online CRM/Performance Databases is used to regularly monitor and evaluate the progress of MBDA's funded centers, to provide the Department and OMB with a summary of the quantitative information that it requires about government supported programs, and to implement the GPRA. This information is also summarized and included in the MBDA Annual Performance Report, which is made available to the public, and may be used to support federal government research studies regarding minority business development issues.

Additionally, the AINA program award recipients are required to maintain content for the CRM/Performance system and the Phoenix and other available online tools. The content registered in the Phoenix and other online business databases is used to match those registered MBEs with opportunities entered in the online databases by public and private sector entities. The MBEs may also self-register via the Online Phoenix Database for notification of potential business opportunities.

Affected Public: Business or other for-profit organizations; not-for-profit institutions; individuals or households; Federal, State, Local or Tribal governments.

Frequency: On occasion, semi-annually, annually.

Respondent's Obligation: Voluntary.

This information collection request may be viewed at reginfo.gov. Follow the instructions to view Department of Commerce collections currently under review by OMB.

Written comments and recommendations for the proposed information collection should be sent within 30 days of publication of this notice to OIRA_Submission@omb.eop.gov or fax to (202) 395-5806.

Dated: October 30, 2015.
Glenna Mickelson,
Management Analyst, Office of the Chief Information Officer.

[FR Doc. 2015-28043 Filed 11-3-15; 8:45 am]

BILLING CODE 3510-JE-P